DEPARTMENT OF LABOR

Employment and Training Administration

Investigations Regarding Certifications of Eligibility To Apply for Worker Adjustment Assistance and Alternative Trade Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than April 16, 2007.

Interested persons are invited to submit written comments regarding the subject matter of the investigations to the Director, Division of Trade Adjustment Assistance, at the address shown below, not later than April 16, 2007.

The petitions filed in this case are available for inspection at the Office of the Director, Division of Trade Adjustment Assistance, Employment and Training Administration, U.S. Department of Labor, Room C-5311, 200 Constitution Avenue, NW., Washington, DC 20210.

Signed at Washington, DC, this 29th day of March 2007.
Ralph DiBattista,
Director, Division of Trade Adjustment Assistance.

Appendix
[TAA petitions instituted between 3/19/07 and 3/23/07]
TA-W | Subject firm (petitioners) | Location | Date of institution | Date of petition
61132 | Dusenbery Worldwide (IBT) | Randolph, NJ | 03/19/07 | 03/16/07
61133 | Foundation Works Inc (Comp) | Cottage Grove, OR | 03/19/07 | 03/14/07
61134 | National Textiles (Sara Lee) (Wkrs) | Winston-Salem, NC | 03/19/07 | 03/06/07
61135 | Williamson and Company (State) | Greer, SC | 03/19/07 | 03/15/07
61136 | Electric Mills Kentucky EMK (Wkrs) | Burkesville, KY | 03/19/07 | 03/16/07
61137 | AAR Cargo Systems (UAW) | Livonia, MI | 03/19/07 | 03/14/07
61138 | Associated Spring, Barnes Group (UAW) | Saline, MI | 03/19/07 | 03/14/07
61139 | Steward Advanced Materials (Comp) | Chattanooga, TN | 03/19/07 | 03/13/07
61140 | Konica Minolta Graphic Imaging USA Inc (Comp) | Glen Cove, NY | 03/19/07 | 03/12/07
61141 | New ADS Marlin Corporation (Comp) | Long Island City, NY | 03/19/07 | 03/15/07
61142 | Alcatel Lucent (IBEW) | Columbus, OH | 03/19/07 | 03/10/07
61143 | DeMag Plastics (Wkrs) | Strongville, OH | 03/20/07 | 03/09/07
61144 | Royal Home Fashions (Comp) | Durham, NC | 03/20/07 | 02/14/07
61145 | Enhanced Manufacturing Solutions LLC (Comp) | Amherst, NY | 03/20/07 | 02/28/07
61146 | Watson Laboratories, Inc (Wkrs) | Phoenix, AZ | 03/20/07 | 03/08/07
61147 | Eastman Kodak (Wkrs) | Rochester, NY | 03/20/07 | 03/14/07
61148 | Russell Corporation, Plant #10 (Comp) | Alexander City, AL | 03/20/07 | 03/19/07
61149 | Johnson Controls (Wkrs) | Fullerton, CA | 03/20/07 | 03/19/07
61150 | Boise Cascade LLC (AWPPW) | Salem, OR | 03/20/07 | 03/19/07
61151 | Autoliv (Comp) | Madisonville, KY | 03/20/07 | 03/19/07
61152 | Precision Laser Inc (Comp) | High Point, NC | 03/20/07 | 03/19/07
61153 | Lenovo (Wkrs) | Reseach Triangle Park, NC | 03/20/07 | 03/17/07
61154 | Quaker Narrow Fabrics (Wkrs) | Milton, PA | 03/20/07 | 03/19/07
61155 | Pine Hosiery Mills Inc (Comp) | Ether, NC | 03/20/07 | 03/15/07
61156 | Classic Tool Inc (Wkrs) | Saegertown, PA | 03/20/07 | 03/15/07
61157 | Visteon Systems LLC (Comp) | Connersville, IN | 03/20/07 | 03/19/07
61158 | Jeld Wen Interior Division (Wkrs) | Chiloquin, OR | 03/21/07 | 03/16/07
61159 | Sony (Wkrs) | Mt. Pleasant, PA | 03/21/07 | 03/20/07
61160 | Bruce Plastics Inc (Comp) | Pittsburgh, PA | 03/21/07 | 03/20/07
61161 | Indalex Solutions (IBC) | Watsonville, CA | 03/21/07 | 03/20/07
61162 | Hoffman LaRoche (State) | Nutley, NJ | 03/21/07 | 03/20/07
61163 | Springs Global (Comp) | Calhoun, GA | 03/21/07 | 03/21/07
61164 | Intel Coproration (Wkrs) | Rio Rancho, NM | 03/22/07 | 03/22/07
61165 | Carhartt Inc Autopocket Facililty (Comp) | Madisonville, KY | 03/22/07 | 03/21/07
61166 | Carhartt Inc Sewing Facility (Comp) | Providence, KY | 03/22/07 | 03/21/07
61167 | Photronics Inc (Comp) | Allen, TX | 03/22/07 | 03/13/07
61168 | CECO—Commercial Enameling Company (State) | Huntington Park, CA | 03/22/07 | 03/21/07
61169 | Mitsui Components (USA) Inc (Comp) | Casa Grande, AZ | 03/22/07 | 03/19/07
61170 | Centurion Wireless Technologies d/b/a Laird Technologies (State) | Lincoln, NE | 03/22/07 | 03/22/07
61171 | Sandusky Atho International (Comp) | Butner, NC | 03/23/07 | 03/22/07
61172 | Keystone Weaving Mills Inc (Comp) | York, PA | 03/23/07 | 03/16/07
61173 | Viking Tool and Drill (State) | St Paul, MN | 03/23/07 | 03/22/07
61174 | Indian Tube Corporation (Comp) | Evansville, IN | 03/23/07 | 03/02/07

[FR Doc. E7-6184 Filed 4-3-07; 8:45 am]

BILLING CODE 4510-FN-P